DEPARTMENT OF HOMELAND SECURITY

Federal Emergency Management Agency

44 CFR Part 67

[Docket No. FEMA-B-7771]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before July 16, 2008.

ADDRESSES: The corresponding preliminary Flood Insurance Rate Maps (FIRMs) for the proposed BFEs for each community are available for inspection at the community's map repository. The respective addresses are listed in the table below.

You may submit comments, identified by Docket No. FEMA-B-7771, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet (above ground): Effective | * Elevation in feet (NGVD) + Elevation in feet (NAVD) # Depth in feet (above ground): Modified | Communities affected
Habersham County, Georgia, and Incorporated Areas
Soquee River Tributary | Approximately 770 feet upstream of confluence with Soquee River | +1307 | +1308 | City of Clarkesville.
| Approximately 380 feet downstream of State Highway 385/Alternate 17/U.S. Highway 441 Business/Grant Street | +1307 | +1308
* National Geodetic Vertical Datum.
+ North American Vertical Datum.
# Depth in feet above ground.
**BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Clarkesville
Maps are available for inspection at City Hall, 210 East Water Street, Clarkesville, GA 30523.
Iberia Parish, Louisiana, and Incorporated Areas
Bayou Petite Anse-Deblanc Coulee-Segura Branch | Approximately 300 ft upstream of U.S. 90 eastbound. | None | +10 | Unincorporated Areas of Iberia Parish.
| Approximately 300 ft downstream of Southern Pacific RR | +11 | +12
Commercial Canal | Approximately 300 ft downstream of Southern Pacific RR | +9 | +10 | Unincorporated Areas of Iberia Parish, City of New Iberia.
| Approximately 450 ft upstream of Admiral Doyle Drive. | None | +11
Duboin Canal | Approximately 3,000 ft downstream of Admiral Doyle Drive | None | +11 | Unincorporated Areas of Iberia Parish, City of New Iberia.
| Intersection with Adrian St | None | +16
Jacks Coulee | Approximately 300 ft downstream of Weeks Island Road | None | +10 | Unincorporated Areas of Iberia Parish.
| Approximately 300 ft upstream of U.S. Hwy 90 | None | +11
Jefferson Canal | Approximately 300 ft downstream of Southern Pacific RR | None | +3 | Unincorporated Areas of Iberia Parish.
| Approximately 100 ft upstream of Jefferson Island Road | None | +6
Little Valley Bayou | Approximately 300 ft downstream of Patoutville Road. | None | +9 | Unincorporated Areas of Iberia Parish.
| Approximately 600 ft upstream of Smith Road | None | +11
Peebles Coulee | Approximately 3,250 ft upstream of J. Allen Daigre Drive | None | +12 | Unincorporated Areas of Iberia Parish, City of New Iberia.
| Approximately 300 ft downstream of Weeks Island Road | +10 | +12
Poufette Canal—Bayou Petite Anse-Segura Branch | Approximately 100 ft upstream of Norris Road | None | +10 | Unincorporated Areas of Iberia Parish.
| Approximately 300 ft downstream of Southern Pacific RR | +11 | +13
Rodere Canal | Approximately 300 ft downstream of Southern Pacific RR | +9 | +12 | Unincorporated Areas of Iberia Parish, City of New Iberia.
| Approximately 2,900 ft upstream of Center Street | None | +14
Tete Bayou | Approximately 500 ft downstream of LA 3195 | None | +13 | Unincorporated Areas of Iberia Parish, City of New Iberia.
| Approximately 250 feet downstream of N. Lewis St. | None | +15
* National Geodetic Vertical Datum.
+ North American Vertical Datum.
# Depth in feet above ground.
**BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of New Iberia
Maps are available for inspection at 457 E. Main St, New Iberia, LA 70560.
Unincorporated Areas of Iberia Parish
Maps are available for inspection at 209 W. Main St., Suite 102, New Iberia, LA 70560.
Livingston Parish, Louisiana, and Incorporated Areas
Lake Maurepas—Entire Shoreline | Highest elevation approximately 40,800 feet south of confluence with Amite River | None | +9 | Unincorporated Areas of Livingston Parish.
| Highest elevation at confluence with Tickfaw River | None | +10
* National Geodetic Vertical Datum.
+ North American Vertical Datum.
# Depth in feet above ground.
**BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Livingston Parish
Maps are available for inspection at 29261 Frost Rd., Livingston, LA 70754.
Davidson County, North Carolina, and Incorporated Areas
Little Brush Fork Tributary 1 | At the confluence with Little Brushy Fork | None | +748 | Town of Midway, Unincorporated Areas of Davidson County.
| Approximately 0.7 mile upstream of the confluence of Little Brushy Fork Tributary 1A | None | +781
Little Brushy Fork | At the confluence with Brushy Fork | None | +732 | Town of Midway, Unincorporated Areas of Davidson County.
| Approximately 1.8 miles upstream of Tom Livengood Road (State Road 1719) | None | +861
Little Brushy Fork Tributary 1A | At the confluence with Little Brushy Fork Tributary 1 | None | +757 | Town of Midway, Unincorporated Areas of Davidson County.
| Approximately 2,000 feet upstream of Garden Valley Drive | None | +786
Miller Creek | At the confluence with Muddy Creek | None | +690 | Town of Midway.
| Approximately 250 feet upstream of North Payne Road (State Road 1510) | +810 | +811
* National Geodetic Vertical Datum.
+ North American Vertical Datum.
# Depth in feet above ground.
**BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Midway
Maps are available for inspection at Midway Town Hall, 125 Gum Tree Road, Midway, NC.
Unincorporated Areas of Davidson County
Maps are available for inspection at Davidson County Governmental Center, Planning and Zoning Department, 913 Greensboro Street, Lexington, NC.
Mercer County, North Dakota, and Incorporated Areas
Antelope Creek | 100 feet Upstream from Mercer County Road 18/53rd Ave. SW | +1743 | +1745 | Mercer County, City of Hazen.
| 100 feet Upstream from Walk Bridge on Abandoned BNSF Railway Grade | +1756 | +1757
Antelope Creek Split | 100 feet Upstream from BNSF Railway Bridge | None | +1754 | Mercer County, City of Hazen.
| 200 feet Upstream from 13th Ave. W. | None | +1758
East Tributary Reach #1 | 100 feet Downstream from Roll Drive | None | +1806 | City of Beulah.
| 100 feet Downstream from Beulah Dam | None | +1840
East Tributary Reach #2 | 100 feet Upstream from BNSF Railway Bridge | +1780 | +1781 | City of Beulah.
| 100 feet Upstream from Beulah Eagle Road | +1792 | +1795
North Tributary | Confluence with East Tributary | None | +1797 | Mercer County, City of Beulah.
| 100 feet Upstream from Seventh St. | None | +1819
Upstream Hazen Tributary | 100 feet Upstream from the Confluence with Antelope Creek | +1754 | +1753 | City of Hazen.
| 1000 feet Upstream from the Confluence with Antelope Creek | +1754 | +1753
West Hazen Tributary | 100 feet Upstream from Confluence with Antelope Creek | +1748 | +1750 | City of Hazen.
| 200 feet Upstream from Divide Street | None | +1764
* National Geodetic Vertical Datum.
+ North American Vertical Datum.
# Depth in feet above ground.
**BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Beulah
Maps are available for inspection at 120 Central Avenue North, Beulah, ND 58523.
City of Hazen
Maps are available for inspection at 146 Main St. E., Hazen, ND 58545.
Mercer County
Maps are available for inspection at 1021 Arthur Street, Stanton, ND 58571-0039.
Raleigh County, West Virginia, and Incorporated Areas
Soak Creek | Approximately 100 feet downstream of State Route 29 | None | +2305 | Unincorporated Areas of Raleigh County, Town of Sophia.
| Approximately 80 feet upstream of McKinney Hollow Road | None | +2328
* National Geodetic Vertical Datum.
+ North American Vertical Datum.
# Depth in feet above ground.
**BFEs to be changed include the listed downstream and upstream BFEs, and include BFEs located on the stream reach between the referenced locations above. Please refer to the revised Flood Insurance Rate. Map located at the community map repository (see below) for exact locations of all BFEs to be changed.
Send comments to William R. Blanton, Jr., Chief, Engineering Management Branch, Mitigation Directorate, Federal Emergency Management Agency, 500 C Street, SW., Washington, DC 20472.
ADDRESSES
Town of Sophia
Maps are available for inspection at Sophia Town Hall, 100 East Railroad Avenue, Sophia, WV 25921.
Unincorporated Areas of Raleigh County
Maps are available for inspection at Raleigh County Commission Building, 116 ½ North Heber Street, Beckley, WV 25801.

(Catalog of Federal Domestic Assistance No. 97.022, “Flood Insurance.”)

Dated: March 31, 2008.
David I. Maurstad,
Federal Insurance Administrator of the National Flood Insurance Program, Department of Homeland Security, Federal Emergency Management Agency.

[FR Doc. E8-8324 Filed 4-16-08; 8:45 am]

BILLING CODE 9110-12-P